DEPARTMENT OF TRANSPORTATION

Office of the Secretary

Urban Partnership-Related Federal Register Notices

AGENCY: Office of the Secretary of Transportation (“OST”), DOT.

ACTION: Notice of list of urban partnership-related Federal Register notices.

SUMMARY: The U.S. Department of Transportation (the “Department”) is pleased to provide you the following list of solicitations issued by the Department in connection with its Urban Partnership Program announced in December 2006.

FOR FURTHER INFORMATION CONTACT: Please address questions regarding this notice to David B. Horner, Esq., Chief Counsel, Federal Transit Administration, U.S. Department of Transportation by e-mail at David.Horner@dot.gov.

SUPPLEMENTARY INFORMATION: The following is a list of solicitations issued by the Department in connection with its Urban Partnership Program announced in December 2006.

The Urban Partnership Program reflects the Department's effort to develop, in the words of U.S. Transportation Secretary Mary Peters, “21st Century Solutions to 21st Century Challenges” facing the Nation's transportation network. One such challenge is the severe and worsening problem of metropolitan traffic congestion. Through the Urban Partnership Program, the Department is offering a combination of grants, technical expertise, regulatory relief and credit support to jurisdictions which are prepared to experiment with four strategies believed to be effective, on a combined basis, in reducing metropolitan traffic congestion: (i) Value pricing, (ii) bus transit, (iii) telecommuting and flextime, and (iv) intelligent transportation technology.

Representatives of metropolitan areas interested in becoming Urban Partners must submit an application to the Department that meets the requirements detailed in the Department's December 8, 2006, Federal Register Notice (“Applications for Urban Partnership Agreements (“UPAs”) as Part of Congestion Initiative”). Designation as an Urban Partner does not, by itself, qualify a party for any grant or funding amount. However, Urban Partners will receive priority consideration under the other departmental discretionary funding programs referenced below, to the extent that program terms provide or allow.

Applicants must apply separately to each of the programs from which they seek funding and must meet each program's specific statutory requirements. Applicants are encouraged to identify in each application those other Urban Partnership-related program solicitations, if any, to which they have applied. All application materials are due to the Department by April 30, 2007, apart from applications to the Federal Transit Administration's Alternatives Analysis and Bus & Bus Facilities Programs, which are due by May 22, 2007.

Date published | Citation | Title (description) | Link
12/08/2006 | 71 FR 71231 | Applications for Urban Partnership Agreements (“UPAs”) as Part of Congestion Initiative (The purpose of this Notice is to solicit proposals by metropolitan areas to enter into UPAs with the Department in order to demonstrate strategies with a combined track record of effectiveness in reducing traffic congestion.) | http://www.fightgridlocknow.gov/ docs/upafrnotice20061208.pdf.
12/18/2006 | 71 FR 77084 | Applications for Funding Under Intelligent Transportation Systems Operational Testing to Mitigate Congestion Program (This notice invites State and local governments and other public authorities to apply to participate in a cooperative effort to deploy and evaluate the application of advanced technologies to reduce congestion in an urban area.) | http://www.fightgridlocknow.gov/ docs/itscongestionnotice20061218.pdf.
12/22/2006 | 71 FR 77084 | Value Pricing Pilot Program Participation, Fiscal Years 2007-2009 (This notice invites State and local governments and other public authorities to apply to participate in the Value Pricing Pilot (“VPP”) program and presents guidelines for program applications.) | http://www.fightgridlocknow.gov/ docs/vpppfrnotice20061222.pdf.
02/12/2007 | 72 FR 6663 | Notice of Availability of Proposed Guidance on New and Small Starts Policies and Procedures (The purpose of this notice is to solicit comments on the policies and procedures for the New and Small Starts programs. The proposed improvements include the consideration of congestion management/pricing strategies and “make-the-case” documents as “other factors” for project justification. Approximately $266 million in discretionary funding is available for new fixed guideway capital projects, including up to $200 million for corridor-based bus projects, under the New Starts/Small Starts program in fiscal year 2007 (net of earmarks under SAFETEA-LU and recommendations in the President's Fiscal Year 2007 Budget)) | http://a257.g.akamaitech.net/7/257/2422/01jan20071800/edocket.access.gpo.gov/2007/pdf/E7-2249.pdf.
03/22/2007 | 72 FR 13552 | Solicitation of Applications for Certain Federal-Aid Highway Funding Available in Fiscal Year 2007 under Federal Highway Discretionary Grant Programs (The purpose of this notice is to solicit applications for Federal grant funding and to issue supplemental notice and information to eligible grantees concerning discretionary grant funds available for obligation in Fiscal Year 2007 under eight discretionary grant programs administered by FHWA. It seeks applications to the programs that both meet the programs' respective statutory criteria and emphasize the proposed projects' highway safety and congestion reduction benefits.) This notice applies to the following programs: | http://a257.g.akamaitech.net/7/257/2422/01jan20071800/ edocket.access.gpo.gov/2007/pdf/E7-5161.pdf.
|  | • Ferry Boat Discretionary Program (23 U.S.C. 147);
|  | • Innovative Bridge Research and Deployment Program (23 U.S.C. 503(b)); |  |  | • Interstate Maintenance Discretionary Program (23 U.S.C. 118(c));
|  | • Public Lands Highway Discretionary Program (23 U.S.C. 202-204);
|  | • Highways for Life Pilot Program (§ 1502 of Pub. L. 109-59);
|  | • Transportation Community and System Preservation Program (§ 1117 of Pub. L. 109-59);
|  | • Truck Parking Facilities Pilot Program (§ 1305 Of Pub. L. 109-59); and
|  | • Delta Region Transportation Development Program (§ 1308 of Pub. L. 109-59).
03/23/2007 | 72 FR 13973 | Solicitation of Applications for Certain Funding Available in Fiscal Year 2007 Under the Federal Transit Administration's Section 5309 Bus and Bus-Related Facilities Discretionary Grant Program To Support Urban Partnerships (This notice solicits applications for a significant portion of funds not “earmarked” by law and otherwise available in Fiscal Year 2007 under the Section 5309 Bus and Bus-Related Facilities Discretionary Grant Program to support the objectives of the Congestion Initiative.) | http://a257.g.akamaitech.net /7/257/2422/01jan20071800/edocket.access.gpo.gov/2007/pdf/E7-4833.pdf.
03/23/2007 | 72 FR 13980 | Alternatives Analysis Discretionary Program (This notice solicits proposals to compete for $12 million in Section 5339 funds to support technical work conducted within an alternatives analysis, in which one of the alternatives is a major transit capital investment. FTA will give priority to proposals to develop and apply methods to estimate the time savings experienced by highway users that result from transit investments.) | http://a257.g.akamaitech.net/7/257/2422/01jan20071800/ edocket.access.gpo.gov/2007/pdf/E7-4830.pdf.

Issued On: April 2, 2007.
Tyler Duvall,
Assistant Secretary for Transportation Policy.

[FR Doc. E7-6724 Filed 4-9-07; 8:45 am]

BILLING CODE 4910-9X-P